DEPARTMENT OF THE INTERIOR

Office of the Secretary

[16XD4523WS\DS10100000\ DWSN00000.000000\DP10020]

Statement of Findings: Taos Pueblo Indian Water Rights Settlement Act

AGENCY: Office of the Secretary, Interior.

ACTION: Notice.

SUMMARY: The Secretary of the Interior (Secretary) is publishing this notice in accordance with section 509(f) of the Taos Pueblo Indian Water Rights Settlement Act, Public Law 111-291 (Settlement Act). Congress enacted the Settlement Act as Title V of the Claims Resolution Act of 2010. The publication of this notice causes the Settlement Agreement entered in accordance with Section 509 of the Settlement Act to become enforceable and causes certain waivers and releases of claims executed pursuant to sections 510 and 511(a) of the Settlement Act to become effective.

DATES: This notice is effective October 7, 2016.

FOR FURTHER INFORMATION CONTACT: Address all comments and requests for additional information to Mr. John E. Peterson II, Chair, Taos Pueblo Water Rights Settlement Implementation Team, Department of the Interior, Bureau of Reclamation, Native American and International Affairs Office, Denver Federal Center, P.O. Box 25007 (86-43200), Denver, Colorado 80225-0007, (303) 445-2122.

SUPPLEMENTARY INFORMATION: The Settlement Act was enacted to resolve the water rights claims of Taos Pueblo (Pueblo) on the Rio Pueblo de Taos and Rio Hondo stream systems and interrelated groundwater and tributaries in the State of New Mexico subject to an adjudication in the U.S. District Court (Court) in State of New Mexico ex rel. State Engineer v. Abeyta and Arellano, Nos. 69cv07896 BB and 69cv07939 BB (D.N.M. filed Feb. 4, 1969). The Settlement Parties include the Pueblo; Taos Valley Acequia Association (representing 55 historic community ditches); Town of Taos; EI Prado Water and Sanitation District; 12 Mutual Domestic Water Consumers Associations; the State of New Mexico (State); and the United States (Settlement Parties). The non-federal Settlement Parties submitted a signed Settlement Agreement to Congress prior to enactment of the Settlement Act. As described in section 502 of the Settlement Act, the purposes of the Settlement Act are:

(1) To approve, ratify, and confirm the Settlement Agreement;

(2) to authorize and direct the Secretary to execute the Settlement Agreement and to perform all obligations of the Secretary under the Settlement Agreement and the Settlement Act; and

(3) to authorize all actions and appropriations necessary for the United States to meet its obligations under the Settlement Agreement and the Settlement Act.

Statement of Findings

In accordance with section 509(f) of the Settlement Act, I find as follows:

(1) The President has signed into law the Settlement Act;

(2) to the extent that the Settlement Agreement conflicted with the Settlement Act, the Settlement Agreement has been revised to conform with the Settlement Act;

(3) the Settlement Agreement, so revised, including waivers and releases pursuant to section 510 of the Settlement Act, has been executed by the Settlement Parties and the Secretary prior to the Settlement Parties' motion for entry of the Partial Final Decree;

(4) Congress has fully appropriated all funds made available under paragraphs (1) and (2) of section 509(c) of the Settlement Act;

(5) the State Legislature has fully appropriated the funds for the State contributions as specified in the Settlement Agreement, and those funds have been deposited in appropriate accounts;

(6) the State has enacted legislation that amends New Mexico Statutes Annotated (NMSA) 1978, section 72-6-3 to state that a water use due under a water right secured to the Pueblo under the Settlement Agreement or the Partial Final Decree may be leased for a term, including all renewals, not to exceed 99 years; and

(7) a Partial Final Decree that sets forth the water rights and contract rights to water to which the Pueblo is entitled under the Settlement Agreement and the Settlement Act and that substantially conforms to the Settlement Agreement and Attachment 5 of the Settlement Agreement has been approved by the Court and has become final and non-appealable.

Sally Jewell,
Secretary of the Interior.

[FR Doc. 2016-24416 Filed 10-6-16; 8:45 am]

BILLING CODE 4334-63-P